DEPARTMENT OF COMMERCE

Economic Development Administration

13 CFR Parts 300, 301, 302, 303, 304, 305, 307, 309, and 314

Webinar on Notice of Proposed Rulemaking, Revolving Loan Fund Program Changes and General Updates to PWEDA Regulations

AGENCY: Economic Development Administration, U.S. Department of Commerce.

ACTION: Notice.

SUMMARY: The Economic Development Administration (“EDA”), U.S. Department of Commerce (“DOC”), will hold a webinar to discuss proposed updates to the agency's regulations implementing the Public Works and Economic Development Act of 1965, as amended (“PWEDA”). On October 3, 2016, EDA published a Notice of Proposed Rulemaking (“NPRM”) in the Federal Register at 81 FR 68186. Through this NPRM, EDA is proposing important changes to the regulations governing the Revolving Loan Fund (“RLF”) program that are intended to reflect current best practices and strengthen EDA's efforts to evaluate, monitor, and improve RLF performance by establishing the Risk Analysis System, a risk-based management framework, to evaluate and manage the RLF program. EDA also proposes to reorganize the RLF regulations to improve their readability and clarify the requirements that apply to the distinct phases of an RLF award. In addition, EDA proposes specific changes to RLF requirements to make RLF awards more efficient for Recipients to administer and for EDA to monitor. Through this NPRM EDA proposes important, but less comprehensive updates to other parts of its regulations, including revising definitions, replacing references to superseded regulations to reflect the promulgation of the Uniform Administrative Requirements, Cost Principles, and Audit Requirements (2 CFR part 200) (“Uniform Guidance”), streamlining the provisions that outline EDA's application process, and clarifying EDA's property management regulations. Given the more comprehensive nature of the changes being proposed to the RLF program, EDA will use this webinar to focus on the proposed RLF changes and explain both the rationale behind those changes and their potential impact. All members of the public are invited to participate.

DATES: The webinar will be held on Tuesday, November 15, 2016, at 2 p.m. Eastern Standard Time.

ADDRESSES: The webinar will be held through Adobe Connect. No registration is required to participate.

You may join the webinar using the following link: https://doc-eda.adobeconnect.com/rlf-nprmwebinar/.

To join by audio conference, please dial the following number: 800-832-0736. When prompted, please enter the following Conference Room Number: 4130458

FOR FURTHER INFORMATION CONTACT: If you have questions about the meeting, please contact Mitchell Harrison, Program Analyst, Performance and National Programs Division, Economic Development Administration, U.S. Department of Commerce, 1401 Constitution Avenue NW., Suite 71030, Washington, DC 20230; telephone: (202) 482-4696.

SUPPLEMENTARY INFORMATION:

a. What is the agenda for the webinar? The agenda for the webinar includes: (1) Introduction by Tom Guevara, Deputy Assistant Secretary for Regional Affairs, EDA, (2) overview of the RLF program, (3) explanation of key RLF changes proposed in the NRPM, and (4) public questions and comments.

b. Will the webinar be recorded? Following the webinar, a recording of the webinar will be posted on EDA's YouTube page at https://www.youtube.com/user/EDACommerce.

c. May I submit questions or comments during the webinar? You may submit a written comment or question during the presentation. We have scheduled the last fifteen minutes of the meeting, from 2:45 to 3 p.m., to address questions or comments from the public. Please note that this public question and comment period may start before 2:45 p.m. if all other agenda items have been covered and may end before 3 p.m. if we have responded to all submitted questions before that time.

d. What do I do if I need additional assistance during the webinar? For information on facilities or services for individuals with disabilities or to request special assistance at the teleconference, please contact the individual listed in the FOR FURTHER INFORMATION CONTACT section, as soon as possible.

e. Can I submit questions after the webinar? In addition to submitting questions or comments during the webinar, members of the public may also submit a comment in writing until December 2, 2016, as indicated in the NPRM, using one of the following methods:

• Federal eRulemaking Portal: http://www.regulations.gov. Follow the instructions for submitting comments. All comments received are a part of the public record and will generally be posted for public viewing on www.regulations.gov without change. All personal identifying information (e.g., name, address, etc.), confidential business information, or otherwise sensitive information submitted voluntarily by the sender will be publicly accessible. EDA will accept anonymous comments (enter “N/A” in the required fields if you wish to remain anonymous).

• Email: regulations@eda.gov. Include “Comments on EDA's regulations” and Docket No. 160519444-6444-01 in the subject line of the message.

• Fax: (202) 482-5671. Please indicate “Attention: Office of Chief Counsel,” “Comments on EDA's regulations,” and Docket No. 160519444-6444-01 on the cover page.

• Mail: Office of the Chief Counsel, Economic Development Administration, U.S. Department of Commerce, 1401 Constitution Avenue NW., Suite 72023, Washington, DC 20230. Please indicate “Comments on EDA's regulations” and Docket No. 160519444-6444-01 on the envelope.

Dated: November 2, 2016.
Roy K.J. Williams,
Assistant Secretary of Commerce for Economic Development.

[FR Doc. 2016-27293 Filed 11-10-16; 8:45 am]

BILLING CODE 3510-24-P